BROADCASTING BOARD OF GOVERNORS

Submission for OMB Review; Comment Request

AGENCY: Broadcasting Board of Governors.

ACTION: Submission for OMB review; comment request.

SUMMARY: Under the provisions of the Paperwork Reduction Act of 1995 (44 U.S.C. Chapter 35), this notice announces that the information collection activity titled, “Interviews and Other Audience Research for Radio and TV Marti” has been forwarded to the Office of Management and Budget (OMB) for review and comment. The Broadcasting Board of Governors (BBG) is requesting reinstatement of this collection for a three-year period and approval of a revision to the burden hours.

The information collection activity involved with this program is conducted pursuant to the mandate given to the BBG (formerly the United States Information Agency) in accordance with Pub.L. 98-111, the Radio Broadcasting to Cuba Act, dated, October 4, 1983, to provide for the broadcasting of accurate information to the people of Cuba and for other purposes. This act was then amended by Pub.L. 101-246, dated, February 16, 1990, which established the authority for TV Marti.

DATES: Comments are due on or before April 9, 2001.

FOR FURTHER INFORMATION CONTACT: Agency Clearance Officer, Ms. Jeannette Giovetti, BBG, M/AO, Room 1657A-1, 330 Independence Avenue, SW., Washington, DC 20237, telephone (202) 205-9692, internet address JGiovett@IBB.GOV; or OMB Desk Officer for BBG, Mr. David Rostker, Office of Information And Regulatory Affairs, Office of Management and Budget, New Executive Office Building, Docket Library, Room 10202, NEOB, Washington, DC 20503, Telephone (202) 395-3897.

Copies: Copies of the Request for Clearance (OMB 83-I), supporting statement, and other documents that have been submitted to OMB for approval may be obtained from the BBG Clearance Officer or the OMB Desk Officer for BBG.

SUPPLEMENTARY INFORMATION: An Agency may not conduct or sponsor and a person is not required to respond to a collection of information unless it displays a currently valid OMB control number. The Federal Register Notice with a 60-day comment period soliciting comments on this collection of information was published on January 8, 2001, Volume 66, Number 5, Page 1303.

Public reporting burden for this proposed collection of information is estimated to average .11 hours per response (6.6 minutes), including the time for reviewing instructions, searching existing data sources, gathering and maintaining the data needed, and completing and reviewing the collection of information. Responses are voluntary and respondents will be required to respond only one time. Comments are requested on the proposed information collection concerning:

(a) Whether the proposed collection of information is necessary for the proper performance of the agency, including whether the information has practical utility;

(b) The accuracy of the Agency's burden estimates;

(c) Ways to enhance the quality, utility, and clarity of the information collected; and

(d) Ways to minimize the burden of the collection of information on the respondents, including the use of automated collection techniques or other forms of information technology.

Send comments regarding this burden estimate or any other aspect of this collection of information to the Agency Clearance Officer, Ms. Jeannette Giovetti, BBG, M/AO, Room 1657A-1, 330 Independence Avenue, SW., Washington, DC 20237, telephone (202) 205-9692, e-mail address JGiovett@IBB.GOV; or to the OMB Desk Officer for BBG, Mr. David Rostker, Office of Information And Regulatory Affairs, Office of Management and Budget, New Executive Office Building, Docket Library, Room 10202, NEOB, Washington, DC 20503, Telephone (202) 395-3897.

Current Actions: BBG is requesting reinstatement of this collection for a three-year period and approval for a revision to the burden hours.

Title: Interviews and Other Audience Research for Radio and TV Marti

Abstract: Data from this information collection are used by BBG's Office of Cuba Broadcasting (OCB) in fulfillment of its mandate to evaluate effectiveness of Radio and TV Marti operations by estimating the audience size and composition for broadcasts; and assess signal reception, credibility and relevance of programming through this research.

Proposed Frequency of Responses:

No. of Respondents—4880.

Recordkeeping Hours—.11.

Total Annual Burden—560.

Dated: January 16, 2001.
Dennis D. Sokol,
Director of Administration.

[FR Doc. 01-5502 Filed 3-8-01; 8:45 am]

BILLING CODE 8610-01-U